NATIONAL FOUNDATION ON THE ARTS AND THE HUMANITIES

Sunshine Act Meeting

AGENCY: Institute of Museum and Library Services.

ACTION: Notice of meeting of the National Museum Services Board.

SUMMARY: This notice sets forth the agenda of a forthcoming meeting of the National Museum Services Board. This notice also describes the function of the board. Notice of this meeting is required under the Government through the Federal Advisory Committee Act (5 U.S.C. App.) and regulations of the Institute of Museum and Library Services, 45 CFR 1180.84.

TIME/DATE: 9 am-12 pm on Friday, January 26, 2001.

STATUS: Open.

ADDRESS: Room M-07, The Old Post Office Building, 1100 Pennsylvania Avenue, NW, Washington, DC 20004, (202) 606-4649.

FOR FURTHER INFORMATION CONTACT: Elizabeth Lyons, Special Assistant to the Director, Institute of Museum and Library Services, 1100 Pennsylvania Avenue, NW, Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The meeting on Friday, January 26, 2001 will be open to the public. If you need special accommodations due to a disability, please contact: Institute of Museum and Library Services, 1100 Pennsylvania Avenue, NW, Washington, DC 20506—(202) 606-8536—TDD (202) 606-8636 at least seven (7) days prior to the meeting date.

Agenda; 80th Meeting of the National Museum Services Board in Room M-07 at The Old Post Office Building, 1100 Pennsylvania Avenue, NW, Washington, DC 20004, on Friday, January 26, 2001

9 am-12 pm

I. Chairman's Welcome

II. Approval of Minutes

III. Director's Report

IV. Staff Reports:

Office of Management and Budget

Office of Public and Legislative Affairs

Office of Technology and Research: The Role of the Technology Officer; Barbara Smith

Office of Museum Services

Office of Library Services

V. Old Business

• Report from the 21st Century Learner Steering Committee

• Review and Approval of Conservation Action Plan

VI. New Business

• IMLS and the New Congress: Special Guest

• Reauthorization Update: Review of the Legislation

• General Operating Support Grants: Analysis and Discussion

Dated: January 9, 2001.
Linda Bell,
Director of Policy, Planning and Budget, National Foundation on the Arts and Humanities, Institute of Museum and Library Services.

[FR Doc. 01-1356 Filed 1-11-01; 2:11 pm]

BILLING CODE 7063-01-M